DEPARTMENT OF COMMERCE

International Trade Administration

[A-570-985]

Xanthan Gum From the People's Republic of China: Final Results of Antidumping Duty Administrative Review and Final Determination of No Shipments; 2020-2021

AGENCY: Enforcement and Compliance, International Trade Administration, Department of Commerce.

SUMMARY: The U.S. Department of Commerce (Commerce) determines that Fufeng Biotechnologies Co., Ltd. (aka Inner Mongolia Fufeng Biotechnologies Co., Ltd.), Shandong Fufeng Fermentation Co., Ltd., and Xinjiang Fufeng Biotechnologies Co., Ltd. (collectively, Fufeng) sold xanthan gum from the People's Republic of China (China) at less than normal value during the period of review (POR), July 1, 2020, through June 30, 2021. Additionally, we find that Meihua Group International Trading (Hong Kong) Limited, Langfang Meihua Biotechnology Co., Ltd., and Xinjiang Meihua Amino Acid Co., Ltd. (collectively, Meihua), Jianlong Biotechnology Co., Ltd. (formerly, Inner Mongolia Jianlong Biochemical Co., Ltd) (Jianlong), and Deosen Biochemical (Ordos) Ltd., Deosen Biochemical Ltd. (collectively, Deosen) have each demonstrated that they are eligible for a separate rate. Additionally, Commerce determines that a company for which we initiated a review had no shipments during the POR.

DATES: Applicable February 15, 2023.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On August 5, 2022, Commerce published the Preliminary Results and invited interested parties to comment on those results.¹ Commerce extended the deadline for the final results by 60 days until February 1, 2023.² For details regarding the events that occurred subsequent to the Preliminary Results, see the Issues and Decision Memorandum.³ Commerce conducted this administrative review in accordance with section 751 of the Tariff Act of 1930, as amended (the Act).

¹ See Xanthan Gum from the People's Republic of China: Preliminary Results of the Antidumping Duty Administrative Review, Partial Rescission of the Antidumping Duty Administrative Review, and Preliminary Determination of No Shipments; 2020-2021, 87 FR 47970 (August 5, 2022) (Preliminary Results), and accompanying Preliminary Decision Memorandum.

² See Memorandum, “Extension of Deadline for Final Results of the 2020-2021 Antidumping Duty Administrative Review,” dated October 31, 2022.

³ See Memorandum “Issues and Decision Memorandum for the Final Results of the 2020-2021 Antidumping Duty Administrative Review of Xanthan Gum from the People's Republic of China,” (Issues and Decision Memorandum), dated concurrently with, and hereby adopted by, this notice.

Scope of the Order ⁴

⁴ See Xanthan Gum from the People's Republic of China: Amended Final Determination of Sales at less Than Fair Value and Antidumping Duty Order, 78 FR 43143 (July 19, 2013) (Order).

The product covered by the Order includes dry xanthan gum, whether or not coated or blended with other products. For a full description of the scope of the Order, see the Issues and Decision Memorandum.

Analysis of Comments Received

All issues raised in the case and rebuttal briefs are addressed in the Issues and Decision Memorandum. A list of the issues that parties raised and to which we responded in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, Commerce determined that Shanghai Smart Chemicals Co. Ltd. did not have shipments of subject merchandise during the POR.⁵ As we received no information to contradict our preliminary determination with respect to Shanghai Smart Chemicals Co. Ltd., we continue to find that it made no shipments of subject merchandise to the United States during the POR.

⁵ See Preliminary Results.

Changes Since the Preliminary Results

Based on a review of the record and comments received from interested parties regarding our Preliminary Results, we made certain changes to the preliminary weighted-average margin calculation for Fufeng and three other companies/company groups listed below.⁶

⁶ See Issues and Decision Memorandum.

Separate Rates

No parties commented on our preliminary separate rate determination. Therefore, we have continued to grant Fufeng (the sole mandatory respondent) and three other companies/company groups listed in the “Final Results of Review” section below separate rate status. However, we have continued to deny separate rate status to Nanotech Solutions SDN BHD.

Rate for Non-Examined Separate Rate Respondents

In the Preliminary Results, we determined that Meihua, Jianlong, and Deosen demonstrated their eligibility for a separate rate. We received no comment or argument since the issuance of the Preliminary Results that provide a basis for reconsideration of this determination. Therefore, for these final results, we continue to find that Meihua, Jianlong, and Deosen are eligible for a separate rate.

Final Results of Review

We are assigning the following dumping margins to the firms listed below for the period July 1, 2020, through June 30, 2021:

Exporter | Weighted-average dumping margins (percent)
Neimenggu Fufeng Biotechnologies Co., Ltd. (aka Inner Mongolia Fufeng Biotechnologies Co., Ltd.)/Shandong Fufeng Fermentation Co., Ltd./Xinjiang Fufeng Biotechnologies Co., Ltd | 17.36
Meihua Group International Trading (Hong Kong) Limited/Langfang Meihua Biotechnology Co., Ltd./Xinjiang Meihua Amino Acid Co., Ltd | 17.36
Jianlong Biotechnology Co., Ltd. (formerly, Inner Mongolia Jianlong Biochemical Co., Ltd) | 17.36
Deosen Biochemical (Ordos) Ltd./Deosen Biochemical Ltd | 17.36

Disclosure

Pursuant to 19 CFR 351.224(b), within five days of the publication of this notice in the Federal Register, we will disclose to the parties to this proceeding, the calculations that we performed for these final results of review.

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

For Fufeng, Commerce will calculate importer-specific assessment rates for antidumping duties, in accordance with 19 CFR 351.212(b)(1). Where the respondent reported reliable entered values, Commerce intends to calculate importer-specific ad valorem assessment rates by aggregating the amount of dumping calculated for all U.S. sales to the importer and dividing this amount by the total entered value of the merchandise sold to the importer.⁷ Where the respondent did not report entered values, Commerce will calculate importer-specific assessment rates by dividing the amount of dumping for reviewed sales to the imported by the total quantity of those sales. Commerce will calculate an estimated ad valorem importer-specific assessment rate to determine whether the per-unit assessment rate is de minimis (i.e., 0.50 percent); however, Commerce will use the per-unit assessment rate where entered values were not reported.⁸ Where an importer-specific ad valorem assessment rate is not zero or de minimis, Commerce will instruct CBP to collect the appropriate duties at the time of liquidation. Where either the respondent's weighted average dumping margin is zero or de minimis, or an importer-specific ad valorem assessment rate is zero or de-minimis, Commerce will instruct CBP to liquidate appropriate entries without regard to antidumping duties.

⁷ See 19 CFR 351.212(b)(1).

⁸ Id.

For entries that were not reported in the U.S. sales database submitted by an exporter individually examined during this review, but that entered under the case number of that exporter (i.e., at the individually-examined exporter's cash deposit rate), Commerce will instruct CBP to liquidate such entries at the China-wide entity rate (i.e., 154.07 percent).⁹

⁹ See Order.

For respondents not individually examined in this administrative review that qualified for a separate rate (i.e., Meihua, Jianlong, and Deosen), the assessment rate will be the dumping margin assigned to the sole mandatory respondent (i.e., Fufeng) in the final results of this review.

For the respondents not eligible for a separate rate and that are part of the China-wide entity, we intend to instruct CBP to apply an ad valorem assessment rate of 154.07 percent (i.e., the China-wide entity rate) to all entries of subject merchandise during the POR that were exported by these companies.

Additionally, if Commerce determines that an exporter under review had no shipments of the subject merchandise, any suspended entries that entered under that exporter's case number will be liquidated at the China-wide rate.

Cash Deposit Requirements

The following cash deposit requirements will be effective for shipments of the subject merchandise entered, or withdrawn from warehouse, for consumption on or after the publication date of the final results of review, as provided for by section 751(a)(2)(C) of the Act: (1) for the exporters listed in the table above, the cash deposit rate will be the rate established in the final results of review that is listed for the exporter in the table; (2) for previously investigated or reviewed China and non-China exporters not listed in the table above that have separate rates, the cash deposit rate will continue to be the existing exporter-specific rate published for the most recent period; (3) for all China exporters of subject merchandise that have not been found to be entitled to a separate rate, the cash deposit rate will be the rate previously established for the China-wide entity, which is 154.07 percent; and (4) for all non-China exporters of subject merchandise which have not received their own rate, the cash deposit rate will be the rate applicable to the China exporter that supplied that non-China exporter. The cash deposit requirements, when imposed, shall remain in effect until further notice.

Notification to Importers Regarding the Reimbursement of Duties

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing these final results of administrative review and publishing this notice in accordance with sections 751(a)(1) and 777(i) of the Act.

Dated: February 1, 2023.
Lisa W. Wang,
Assistant Secretary for Enforcement and Compliance.

Appendix

List of Topics Discussed in the Issues and Decision Memorandum

I. Summary

II. Background

III. Scope of the Order

IV. Discussion of Issues

Comment 1: Whether Commerce Should Directly Value Energy Factors of Production (FOP) in Its Normal Value (NV) Calculation

Comment 2: Whether Commerce Should Assign Facts Available for Fufeng's Supplier Distances

Comment 3: Whether Commerce Should Allow and Assign a Cap for Certain By-Products

Comment 4: Whether Commerce Should Correct Certain Clerical Errors in the Preliminary Results

Comment 5: Whether Commerce Should Modify its Calculation of Ocean Freight Surrogate Value (SV)

Comment 6: Whether Commerce Should Use Rani Transport Data Instead of World Bank's Doing Business Data for Calculating Truck Freight SV

Comment 7: Whether Commerce Should Not Deduct Section 301 Duties From the U.S. Price

Comment 8: Whether Commerce's Application of the Cohen's d Test is Unsupported by Substantial Evidence and Controlling Law

Comment 9: Whether Commerce Should Analyze Meihua's Voluntary Response and Provide a Calculation for Meihua

V. Recommendation

[FR Doc. 2023-03157 Filed 2-14-23; 8:45 am]

BILLING CODE 3510-DS-P